ENVIRONMENTAL PROTECTION AGENCY

[FRL-6853-4]

Regulatory Reinvention (XL) Pilot Projects

AGENCY: Environmental Protection Agency (EPA).

ACTION: Notice of availability of the Project XL Draft Final Project Agreement for the Labs21 Project.

SUMMARY: EPA is requesting comments on a Draft Project XL Final project Agreement (FPA) for the Labs21 Project. The FPA is a voluntary agreement developed collaboratively by the U.S. EPA, potential sponsors, and interested stakeholders. Project XL, announced in the Federal Register on May 23, 1995 (60 FR 27282), gives regulated entities the flexibility to develop alternative strategies that will replace or modify specific regulatory or procedural requirements on the condition that they produce greater environmental benefits.

Through the Labs21 XL Project, EPA is planning to offer laboratories regulatory or policy flexibility through a customized XL review process as a means to enable laboratories to maximize environmental performance under Labs21. Labs21 is a voluntary initiative being developed by EPA to improve laboratory environmental performance through gains in energy and water efficiencies.

EPA envisions developing the Labs21 XL project in two stages. The first stage is the completion and signing of the FPA that is the subject of this Federal Register Notice. In signing this FPA, the relevant EPA offices will commit to working internally within the EPA and with laboratories to determine how to harmonize Labs21 and XL application and review processes with the goal of making it possible for EPA to utilize information compiled on facilities under Labs21 as the core data for the XL review. The second stage of the Labs21 XL project will be to develop and issue case-specific agreements for testing innovative ways to maximize environmental performance at laboratories. EPA will negotiate these case-specific agreements through the existing XL process, and the agreements will consequently need to meet XL criteria for sponsors and for the project as a whole.

DATES: The period for submission of comments ends on August 31, 2000.

ADDRESSES: All comments on the proposed Final Project Agreement should be sent to: Nina Bonnelycke, U.S. EPA, Room 1027WT (1802), 1200 Pennsylvania Ave., NW., Washington, DC 20460. Comments may also be faxed to Ms. Bonnelycke at (202) 260-1812 or sent via electronic mail to bonnelycke.nina@epa.gov.

FOR FURTHER INFORMATION CONTACT: To obtain a copy of the draft Final Project Agreement, contact: Nina Bonnelycke, Room 1027WT (1802) U.S. EPA, 1200 Pennsylvania Ave., NW., Washington, DC 20460. The FPA and related documents are also available via the Internet at the following location: http://www.epa.gov/ProjectXL. Questions regarding the draft FPA should be directed to Nina Bonnelycke at 202-260-3344. For information on all other aspects of the XL Program contact Christopher Knopes at the following address: Office of Policy, Economics and Innovation, United States Environmental Protection Agency, 1200 Pennsylvania Ave., NW., Room 1029WT (Mail Code 1802), Washington, DC 20460. Additional information on Project XL, including documents referenced in this notice, other EPA policy documents related to Project XL, regional XL contacts, application information, and descriptions of existing XL projects and proposals, is available via the Internet at http://www.epa.gov/ProjectXL.

For more information on EPA's Labs21 program, please contact Phil Wirdzek at Mail Code 3204 U.S. EPA, Ariel Rios Building, 1200 Pennsylvania Ave., NW., Washington, DC 20460, phone: 202-564-2094, email: wirdzek.phil@epa.gov.

Dated: August 11, 2000.
Elizabeth A. Shaw,
Director, Office of Environmental Policy Innovation.

[FR Doc. 00-20969 Filed 8-16-00; 8:45 am]

BILLING CODE 6560-50-M